DEPARTMENT OF COMMERCE

National Oceanic and Atmospheric Administration

50 CFR Part 679

[Docket No. 991207325-9325-01; I.D. 100699A]

RIN 0648-AJ52

Fisheries of the Exclusive Economic Zone Off Alaska; A Cost Recovery Program for the Individual Fishing Quota Program; Correction

AGENCY: National Marine Fisheries Service (NMFS), National Oceanic and Atmospheric Administration (NOAA) Commerce.

ACTION: Correction.

SUMMARY: NMFS is correcting the proposed rule for A Cost Recovery Program for the Individual Fishing Quota Program published December 27, 1999.

DATES: Effective December 27, 1999.

FOR FURTHER INFORMATION CONTACT: Jay Ginter, 907-586-7228.

SUPPLEMENTARY INFORMATION: Section 304(d) of the Magnuson-Stevens Fishery Conservation and Management Act requires the Secretary of Commerce to collect fees to recover actual costs incurred for Federal management of the Individual Fishing Quota Program for fixed gear Pacific halibut and sablefish fisheries in waters in and off of Alaska. NMFS proposed a cost recovery program to collect such fees.

In the proposed rule, published December 27, 1999 (64 FR 72302), make the following corrections:

1. On page 72307, in the 2nd column, § 679.4(d)(7), in the 6th line of that paragraph, remove “679.(e)(7)(ii)” and add “679.(l)(7)(ii)” in its place.

2. On page 72308, in the 3rd column, at § 679.45(a)(2), in the 20th line of that paragraph, remove “§ 675.5(1)(7)(ii)”, and add “§ 675.5(l)(7(ii)” in its place.

3. On page 72309, in the 2nd column, at § 679.45(d), in the first line of that paragraph, remove the paragraph designation “(i)” and add the paragraph designation “(1)” in its place.

4. On page 72309, in the 3rd column, at § 679.45(d)(3), in the first line of that paragraph, remove the paragraph designation “(1)”, and add in its place the paragraph designation (i).

Dated: February 28, 2000.
Andrew A. Rosenberg,
Deputy Asst. Administrator for Fisheries, National Marine Fisheries Service.

[FR Doc. 00-5221 Filed 3-3-00; 8:45 am]

BILLING CODE 3510-22-F